ENVIRONMENTAL PROTECTION AGENCY

[FRL-9210-6]

Regulatory Training Session With Air Carriers, EPA Regional Partners and Other Interested Parties for Implementation of the Aircraft Drinking Water Rule

AGENCY: Environmental Protection Agency (EPA).

ACTION: Notice.

SUMMARY: The Environmental Protection Agency (EPA) will hold a two-day training session on the regulatory requirements of the Aircraft Drinking Water Rule (ADWR). Under the ADWR, by April 19, 2011, air carriers who meet the definition of “public water systems” under the Safe Drinking Water Act (SDWA) must meet the first set of requirements of the new regulation. These air carriers must meet the rest of the requirements by October 19, 2011. The training will provide information and instruction on the regulation's general requirements, coliform monitoring and sampling plans, operation and maintenance plans (O&M), public notification, recordkeeping, supplemental treatment, and violations of the rule and their corresponding corrective actions. Additionally, EPA will provide information on updates to the ADWR Reporting and Compliance System (ARCS).

DATES: The training will be held on November 9 through November 10, 2010. An additional training session will be provided in early 2011.

ADDRESSES: The training will be held at the Rosslyn Holiday Inn at 1900 North Fort Myer Drive, Arlington, VA 22209, Phone: (703) 807-2000 Extension 220.

FOR FURTHER INFORMATION CONTACT: Matthew Reed at (202) 564-4719, or e-mail at reed.matthew@epa.gov. Information about the final Aircraft Drinking Water Rule may be found at http://water.epa.gov/lawsregs/rulesregs/sdwa/airlinewater/index.cfm.

SUPPLEMENTARY INFORMATION: For information on access or services for individuals with disabilities, please contact Matthew Reed at (202) 564-4791 or by e-mail at reed.matthew@epa.gov. To request accommodation of a disability, please contact Matthew Reed preferably at least 10 days prior to the training to give EPA as much time as possible to process your request.

Dated: September 30, 2010.
Cynthia C. Dougherty,
Director, Office of Ground Water and Drinking Water.

[FR Doc. 2010-24921 Filed 10-4-10; 8:45 am]

BILLING CODE 6560-50-P